DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KB, the Children's Bureau, Administration on Children, Youth and Families (ACYF) (66 FR 30215-18), as last amended June 5, 2001. This notice moves the Data Team from the Division of Data, Research and Innovation, Children's Bureau to the Office of the Associate Commissioner, Children's Bureau and renames the Division.

This Chapter is amended as follows:

1. Chapter KB, Administration on Children, Youth and Families.

A. Delete KB.10 Organization in its entirety and replace with the following:

KB.10 Organization. The Administration on Children, Youth and Families is headed by a Commissioner, who reports directly to the Assistant Secretary for Children and Families and consists of:

• Office of the Commissioner (KBA)

• Office of Management Services (KBA1)

• Head Start Bureau (KBC)

• Program Operations Division (KBC1)

• Program Support Division (KBC2)

• Program Management Division (KBC3)

• Children's Bureau (KBD)

• Office of Child Abuse and Neglect (KBD1)

• Division of Policy (KBD2)

• Division of Program Implementation (KBD3)

• Division of Research and Innovation (KBD4)

• Division of Child Welfare Capacity Building (KBD5)

• Division of State Systems (KBD6)

• Family and Youth Services Bureau (KBE)

• Child Care Bureau (KBG)

• Immediate Office/Administration (KBG1)

• Program Operations Division (KBG2)

• Policy Division (KBG3)

• Technical Assistance Division (KBG4)

B. Delete KB.20 Functions, Paragraph D introductory material, in its entirety and replace with the following:

D. The Children's Bureau is headed by an Associate Commissioner who advises the Commissioner, Administration on Children, Youth and Families, on matters related to child welfare, including child abuse and neglect, child protective services, family preservation and support, adoption, foster care and independent living. It recommends legislative and budgetary proposals, operational planning system objectives and initiatives, and projects and issue areas for evaluation, research and demonstration activities. It represents ACYF in initiating and implementing interagency activities and projects affecting children and families, and provides leadership and coordination for the programs, activities, and subordinate components of the Bureau. It is responsible for the Data and Technology Team which analyzes and disseminates program data from the Adoption and Foster Care Analysis and Reporting System (AFCARS), and the National Child Abuse and Neglect Data System (NCANDS); develops systematic methods of measuring the impact and effectiveness of various child welfare programs; performs statistical sampling functions; provides comprehensive guidance to States, local agencies and others on data collection issues, and performance outcome measures; and is the focal point for technology development within the Bureau.

C. Delete KB.20 Functions, Paragraph D.4, in its entirety and replace with the following:

4. The Division of Research and Innovation provides leadership and direction in program development, innovation, research and in the management of the Bureau's information systems under titles IV-B and IV-E of the Social Security Act, and under the Child Abuse Prevention and Treatment Act. It defines critical issues for investigation and makes recommendations regarding subject areas for research, demonstration and evaluation. It administers the Bureau's discretionary grant programs, and awards project grants to State and local agencies and organizations nationwide. It provides direction to the Crisis Nurseries and Abandoned Infants Resource Centers.

Dated: December 9, 2003.
Wade F. Horn,
Assistant Secretary for Children and Families.

[FR Doc. 03-31374 Filed 12-30-03; 8:45 am]

BILLING CODE 4184-01-P